DEPARTMENT OF HOMELAND SECURITY

Request To Submit Invoices for Over-Age Firm-Fixed-Price Contracts

AGENCY: Office of the Chief Procurement Officer, DHS.

ACTION: Notice.

SUMMARY: The Department of Homeland Security (DHS) currently has contracts that are considered over-age, as the period of performance or final delivery date of these actions has expired and the time allowed for contract file closeout has elapsed. To clear the backlog of over-age contracts, DHS developed procedures that would enable the Agency to closeout these elapsed actions in an efficient and cost effective manner. These procedures required the Agency to identify those expired contracts that could more easily be closed-out based on certain criteria that would deem them low-risk, such as firm-fixed-price contracts containing no outstanding issues and no invoice or payment activity within the past year. These contracts are listed at https://dhs.gov/publication/low-risk-closeout. To facilitate the closeout of these actions, DHS requests that contractors with contracts identified on this list submit any outstanding invoices to the cognizant DHS Component contracting activities within 60 days after the publication of this notice.

DATES: For the contract actions listed at https://dhs.gov/publication/low-risk-closeout, submit all outstanding invoices to the cognizant DHS Component contracting activities on or before December 2, 2016.

ADDRESSES: Go to https://dhs.gov/publication/low-risk-closeout for guidance on where to submit invoices.

FOR FURTHER INFORMATION CONTACT: Eric Cho, Office of the Chief Procurement Officer, Department of Homeland Security, 245 Murray Lane SW., Building 410, Washington, DC 20528, telephone: 202-447-0271; email: Eric.Cho@hq.dhs.gov.

SUPPLEMENTARY INFORMATION: DHS's contract closeout backlog not only poses a significant burden to various acquisition and financial systems, but it also impedes DHS's on-going efforts to strengthen and modernize its financial management practices. The procedures DHS developed to significantly reduce the number of expired contracts with unliquidated funds will enable DHS to expeditiously close these actions. DHS developed the procedures using risk-based management principles by first identifying and classifying open, expired contracts as low-risk based on the following criteria: (i) The contract is firm-fixed-price; (ii) the contract expired and the additional time allowed for contract file closeout under Federal Acquisition Regulation (FAR) 4.804-1(a) has elapsed; and (iii) the contract had no invoice or payment activity within the past 12 months.

Notwithstanding DHS's intention to expeditiously closeout the actions identified at the aforementioned list, contractors' rights are protected under 41 U.S.C. chapter 71 Contract Disputes (commonly known as the Contract Disputes Act of 1978), which establishes procedures for filing claims against Federal Government contracts. Normal contract file retention requirements will apply after closeouts (See FAR 4.805, Storage, handling, and disposal of contract files.) This notice will also be published to FedBizOpps.

Dated: September 8, 2016.
Soraya Correa,
Chief Procurement Officer.
Chip Fulghum,
Deputy Under Secretary for Management and Chief Financial Officer.

[FR Doc. 2016-22118 Filed 9-30-16; 8:45 am]

BILLING CODE 9110-9B-P